DEPARTMENT OF HOUSING AND URBAN DEVELOPMENT

[Docket No. FR-5380-N-37]

Notice of Proposed Information Collection: Comment Request; Recertification of Family Income and Composition, Section 235(b) and Statistical Report Section 235(b), (i) and (j)

AGENCY: Office of the Assistant Secretary for Housing, HUD.

ACTION: Notice.

SUMMARY: The proposed information collection requirement described below will be submitted to the Office of Management and Budget (OMB) for review, as required by the Paperwork Reduction Act. The Department is soliciting public comments on the subject proposal.

DATES: Comments Due Date: December 7, 2010.

ADDRESSES: Interested persons are invited to submit comments regarding this proposal. Comments should refer to the proposal by name and/or OMB Control Number and should be sent to: Reports Liaison Officer, Department of Housing and Urban Development, 451 7th Street, SW., Washington, DC 20410, Room 9120 or the number for the Federal Information Relay Service (1-800-877-8339).

FOR FURTHER INFORMATION CONTACT: Vance Morris, Director, Office of Single Family Asset Management, Department of Housing and Urban Development, 451 7th Street, SW., Washington, DC 20410, telephone (202) 708-3175 (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Recertification of Family Income and Composition, Section 235(b) and Statistical Report Section 235(b), (i) and (j).

OMB Control Number, if applicable: 2502-0082.

The Form HUD-93101 is sent by lenders to individual borrowers to determine and adjust the amount of subsidy a mortgagor is eligible to receive. It is used for securing re-certifications. The forms serve as vehicles for obtaining the information necessary to determine family income and composition, and to compute assistance under HUD guidelines. The HUD-93101-A form is no longer submitted to HUD by lenders for statistical analysis of increase and decrease in subsidy and general program information. Mortgagees maintain copies of both forms HUD-93101 and 93101-A for audit purposes.

Agency form numbers, if applicable: HUD-93101 and HUD-93101-A.

Estimation of the total numbers of hours needed to prepare the information collection including number of respondents, frequency of response, and hours of response: The number of respondents is 7,000, the frequency of responses is annually, for a total of 7,000 total annual responses. The estimated time to prepare collection varies from 6 minutes to 1 hour, for a total annual burden hours of 3,850.

Status of the proposed information collection: This is an extension of a currently approved collection.

Authority: The Paperwork Reduction Act of 1995, 44 U.S.C., Chapter 35, as amended.

Dated: October 1, 2010.
Ronald Y. Spraker,
Associate General Deputy Assistant Secretary for Housing.

[FR Doc. 2010-25355 Filed 10-7-10; 8:45 am]

BILLING CODE 4210-67-P